DEPARTMENT OF ENERGY

Federal Energy Regulatory Commission

[Project No. 4472-031]

Union Falls Hydropower, L.P.; Notice of Application Accepted for Filing and Soliciting Motions To Intervene and Protests

Take notice that the following hydroelectric application has been filed with the Commission and is available for public inspection.

a. Type of Application: New Major License.

b. Project No.: 4472-031.

c. Date filed: June 30, 2022.

d. Applicant: Union Falls Hydropower, L.P. (Union Falls).

e. Name of Project: Saranac Hydroelectric Project (Saranac Project or project).

f. Location: The existing project is located on the Saranac River, in the town of Franklin in Franklin County and the town of Black Brook in Clinton County, New York. The project does not occupy federal land.

g. Filed Pursuant to: Federal Power Act, 16 U.S.C. 791 (a)-825(r).

h. Applicant Contact: Ms. Sherri Loon, Coordinator—Operations USA, Kruger Energy, 423 Brunswick Ave., Gardiner, ME 04345; phone: (207) 203-3026; email: Sherri.Loon@kruger.com; and Mr. Lewis Loon, General Manager, Operations and Maintenance—USA, Kruger Energy, 432 Brunswick Ave., Gardiner, ME 04345; phone: (207) 203-3027; email: Lewis.Loon@kruger.com.

i. FERC Contact: Claire Rozdilski, 202-502-8259, or claire.rozdilski@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Saranac Hydroelectric Project (P-4472-031).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The Saranac Project consists of the following existing facilities: (1) a 151-foot-long, 24-foot-high dam with a 147-foot-long spillway section at crest elevation 1,408.49 feet National Geodetic Vertical Datum of 1929 (NGVD 29) with 1-foot-high flashboards; (2) a reservoir having a surface area of 1,630 acres and a gross storage capacity of 8,900 acre-feet at pool elevation 1,409.49 feet NGVD 29; (3) an integrated 36-foot-long gated intake structure at the dam's left (north) side; (4) an 11-foot-diameter, 1,433-foot-long steel penstock; (5) a surge vent; (6) a powerhouse containing two turbine generating units with a total rated capacity of 2.6 megawatts; (7) 4.16-kilovolt (kV) generator leads; (8) a 4.16/46-kV step-up transformer bank; (9) a 90-foot-long, 46-kV transmission line; (10) a tailrace; and (11) appurtenant facilities.

The Saranac Project operates in a modified run-of-river mode through the use of a float control for the purpose of generating electric power, with a minimum flow of 30 cubic feet per second (cfs) in the bypassed reach from April 1 through June 30, and a minimum flow of 10 cfs during the remainder of the year. The project has an average annual generation of 745 megawatt-hours.

Union Falls does not propose changes to project facilities. Union Falls proposes to: (1) limit the maximum daily drawdown of the project impoundment to no more than 3 inches in a 24-hour period, and limit the total drawdown to 6 inches below the top of the project's flashboards, or below the spillway crest when flashboards are not present; (2) provide a minimum base flow of 165 cfs or inflow, whichever is less, at the dam year-round; (3) increase the minimum flow in the bypassed reach to 30 cfs from December 1 through March 1 and 50 cfs from March 2 through November 30; and (4) install signage for the canoe portage trail and tailrace parking area. In addition, Union Falls proposes to develop the following plans: bald eagle management plan, invasive species management plan, impoundment drawdown plan, and operation compliance monitoring plan.

m. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments May 2023

Scoping Document 1 comments due June 2023

Issue Scoping Document 2 (if necessary) July 2023

Issue Notice of Ready for Environmental Analysis July 2023

Dated: April 11, 2023.
Kimberly D. Bose,
Secretary.

[FR Doc. 2023-08135 Filed 4-17-23; 8:45 am]

BILLING CODE 6717-01-P